SUSQUEHANNA RIVER BASIN COMMISSION

Projects Rescinded for Consumptive Uses of Water

AGENCY: Susquehanna River Basin Commission.

ACTION: Notice.

SUMMARY: This notice lists the projects rescinded by the Susquehanna River Basin Commission during the period set forth in DATES.

DATES: May 1, 2012 through June 30, 2012.

ADDRESSES: Susquehanna River Basin Commission, 1721 North Front Street, Harrisburg, PA 17102-2391.

FOR FURTHER INFORMATION CONTACT: Richard A. Cairo, General Counsel, telephone: (717) 238-0423, ext. 306; fax: (717) 238-2436; email: rcairo@srbc.net. Regular mail inquiries may be sent to the above address.

SUPPLEMENTARY INFORMATION: This notice lists the projects, described below, being rescinded for the consumptive use of water pursuant to the Commission's approval by rule process set forth in 18 CFR 806.22(f) for the time period specified above:

Approvals by Rule Rescissions Under 18 CFR 806.22(f)

1. Talisman Energy USA, Inc., Pad ID: 02 016 DCNR 587, ABR-201008071, Ward Township, Tioga County, Pa.; Rescind Date: May 18, 2012.

2. Talisman Energy USA, Inc., Pad ID: 05 069 Porcupine Enterprise, LLC, ABR-201009035, Orwell Township, Bradford County, Pa.; Rescind Date: May 18, 2012.

3. Talisman Energy USA, Inc., Pad ID: 05 064 Manchester K, ABR-201010012, Orwell Township, Bradford County, Pa.; Rescind Date: May 18, 2012.

4. Talisman Energy USA, Inc., Pad ID: 05 070 Corbin T, ABR-201010024, Orwell Township, Bradford County, Pa.; Rescind Date: May 18, 2012.

5. Talisman Energy USA, Inc., Pad ID: 03 088 Andrews A, ABR-201103005, Wells Township, Bradford County, Pa.; Rescind Date: May 18, 2012.

6. Talisman Energy USA, Inc., Pad ID: 03 081 Bergeys, ABR-201105012, Wells Township, Bradford County, Pa.; Rescind Date: May 18, 2012.

7. Talisman Energy USA, Inc., Pad ID: 05 257 Lombardo J, ABR-201108028, Pike Township, Bradford County, Pa.; Rescind Date: May 18, 2012.

8. Talisman Energy USA, Inc., Pad ID: 05 203 Race, ABR-201109001, Windham Township, Bradford County, Pa.; Rescind Date: May 18, 2012.

9. Talisman Energy USA, Inc., Pad ID: 05 068 PNMT and Associates Inc., ABR-201109008, Pike Township, Bradford County, Pa.; Rescind Date: May 18, 2012.

10. Novus Operating, LLC, Pad ID: Lucca, ABR-201106028, Covington and Sullivan Townships, Tioga County, Pa.; Rescind Date: June 25, 2012.

11. Penn Virginia Oil & Gas Corporation, Pad ID: Cady #1, ABR-20091026, Brookfield Township, Tioga County, Pa.; Rescind Date: June 25, 2012.

12. Penn Virginia Oil & Gas Corporation, Pad ID: Hurler, ABR-201103002, Harrison Township, Potter County, Pa.; Rescind Date: June 25, 2012.

13. Penn Virginia Oil & Gas Corporation, Pad ID: Kibbe Pad, ABR-201104026, Harrison Township, Potter County, Pa.; Rescind Date: June 25, 2012.

14. Penn Virginia Oil & Gas Corporation, Pad ID: Godshall B Pad, ABR-201107008, Hector Township, Potter County, Pa.; Rescind Date: June 25, 2012.

15. Penn Virginia Oil & Gas Corporation, Pad ID: Godshall A Pad, ABR-201107026, Hector Township, Potter County, Pa.; Rescind Date: June 25, 2012.

16. Penn Virginia Oil & Gas Corporation, Pad ID: Original Ten Pad, ABR-201107025, Hector Township, Potter County, Pa.; Rescind Date: June 25, 2012.

Authority: Pub. L. 91-575, 84 Stat. 1509 et seq., 18 CFR parts 806, 807, and 808.

Dated: August 21, 2012.
Stephanie L. Richardson,
Secretary to the Commission.

[FR Doc. 2012-22228 Filed 9-10-12; 8:45 am]

BILLING CODE 7040-01-P